NUCLEAR REGULATORY COMMISSION

10 CFR Part 71

Regulations for the Safe Transport of Radioactive Material; Notice of Document Availability and Request for Comments

AGENCY: U.S. Nuclear Regulatory Commission.

ACTION: Notice of document availability and request for comments on draft 2009 revision to International Atomic Energy Agency Regulations.

SUMMARY: The U.S. Nuclear Regulatory Commission (NRC) is seeking public comment on a draft revision of the International Atomic Energy Agency's (IAEA) “Regulations for the Safe Transport of Radioactive Material” (TS-R-1), which is scheduled for publication in 2009. The NRC and the U.S. Department of Transportation (DOT) jointly will be submitting comments on the draft document to the IAEA. We are requesting input from the public to assist in developing the U.S. comments.

DATES: Comments on the proposed 2009 revision of TS-R-1 will be accepted by the NRC until January 4, 2008. Comments received after this date will be considered if it is practical to do so, however we are only able to assure consideration for comments received on or before this date.

ADDRESSES: Members of the public are invited and encouraged to submit written comments to Michael T. Lesar, Chief, Rulemaking, Directives and Editing Branch, Mail Stop T6-D59, U.S. Nuclear Regulatory Commission, Washington, DC 20555-0001. Comments may be submitted by electronic mail to: nrcrep@nrc.gov. Comments may also be hand delivered to 11555 Rockville Pike, Rockville, Maryland 20852, between 7:45 a.m. and 4:15 p.m. on Federal workdays.

Copies of comments received may be viewed at the NRC's Public Document Room, One White Flint North, Public File Area O1-F21, 11555 Rockville Pike (First Floor), Rockville, Maryland.

FOR FURTHER INFORMATION CONTACT: Michele M. Sampson, Office of Nuclear Material Safety and Safeguards, USNRC, Washington, DC 20555-0001, telephone: (301) 492-3292; e-mail: mxs14@nrc.gov.

SUPPLEMENTARY INFORMATION:

I. Background

The IAEA periodically revises TS-R-1 to reflect new information and accumulated experience. The DOT is the U.S. competent authority before the IAEA for radioactive material transportation matters. The NRC provides technical support to the DOT in this regard, particularly with regard to Type B and fissile packages.

The IAEA recently released, for 120-day Member State review, a draft revision of TS-R-1 intended for publication in 2009. To assure opportunity for public involvement in the international regulatory development process, we are requesting input from the public on the proposed revisions to TS-R-1. At this time, comments are being solicited on the changes made from the 2005 edition which are included in the 2009 draft revision. To facilitate review, the IAEA has provided a summary Table of Changes document comparing the 2005 version of TS-R-1 to the proposed 2009 changes by paragraph. Any comments made should refer to the relevant paragraph number in the 2009 draft revision of TS-R-1, and when appropriate should propose alternative text.

II. Public Participation

The draft 2009 revision to TS-R-1 [ML073170348] and Table of Changes [ML073170368] documents are available at the NRC's Agencywide Document Access and Management System (ADAMS) Public Electronic Reading Room on the Internet, accessible through the NRC's public Web site at http://www.nrc.gov. This Web site provides text and image files of the NRC's public documents. The public can gain entry into ADAMS through the agency's public Web site at http://www.nrc.gov/reading-rm/adams.html, under Accession No. ML073170348, for the 2009 Draft version of TS-R-1, and Accession No. ML073170368, for the Table of Changes comparison document. The documents may also be viewed electronically on the public computers located at the NRC's Public Document Room (PDR), One White Flint North, 11555 Rockville Pike, Room O1-F21, Rockville, Maryland. The PDR reproduction contractor will copy documents for a fee. If you do not have access to ADAMS or if there are problems in accessing the documents located in ADAMS, contact the NRC PDR Reference Staff at (800) 397-4209, (301) 415-4737, or by e-mail to pdr@nrc.gov.

Comments should cite the publication date and page number of this Federal Register document. Comments must be submitted in writing (electronic file on disk in Microsoft Word format preferred) and are to include:

• Name;

• Address;

• Telephone number;

• E-mail address;

• Relevant paragraph number in the document being reviewed, and

• When appropriate, proposed alternative text.

The DOT and the NRC will review the comments received from industry and the public. Based in part on the information received, the U.S. will develop comments on the revised draft of TS-R-1 to be submitted to the IAEA by February 15, 2008.

Comments from the United States and other IAEA member states will be considered at an IAEA Transport Safety Standards Committee (TRANSSC) Meeting to be convened by IAEA on March 3-7, 2008, in Vienna, Austria. Subsequent domestic compatibility rulemakings by both NRC and DOT may be necessary after IAEA final publication of the 2009 revised TS-R-1.

Dated at Rockville, Maryland, this 15th day of November, 2007.
For the Nuclear Regulatory Commission.
David W. Pstrak,
Chief, Rules, Inspections, and Operations Branch, Division of Spent Fuel Storage and Transportation, Office of Nuclear Material Safety and Safeguards.

[FR Doc. E7-22759 Filed 11-20-07; 8:45 am]

BILLING CODE 7590-01-P